DEPARTMENT OF AGRICULTURE

Forest Service

California Coast Provincial Advisory Committee

AGENCY: Forest Service, USDA.

ACTION: Notice of meeting.

SUMMARY: The California Coast Provincial Advisory Committee (PAC) will meet on March 3, 2004, in Orick, California. The purpose of the meeting is to discuss issues relating to implementing the Northwest Forest Plan (NWFP).

DATES: The meeting will be held from 8:30 a.m. to 5 p.m.

ADDRESSES: The meeting will be held at the Redwood National Park Headquarters Conference Room, 121200 Highway 101, Orick, CA.

FOR FURTHER INFORMATION CONTACT: Phebe Brown, Committee Coordinator, USDA, Mendocino National Forest, 825 N. Humboldt Avenue, Willows, CA 95988, (530) 934-1137; e-mail pybrown@fs.fed.us.

SUPPLEMENTARY INFORMATION: Agenda items to be covered include: (1) Regional Ecosystem Office (REO) update; (2) U.S. Fish and Wildlife Service summary and update on Findings in the Pacific Fisher, Marbled Murrelet, and Northern Spotted Owl Status Reviews; (3) update on planning for a Province fire ecology/fuels treatment workshop; (4) presentation on the Draft King Range Environmental Impact Statement; (5) Aquatic Conservation Subcommittee report and recommendations; (6) Redwood National Park issues, including Second Growth Management Plan, Fire Management Plan, and a field visit and discussion on Redwood Creek Estuary restoration; (7) presentation on the Healthy Forests Restoration Act; (8) agency and constituency updates; and (9) public comment. The meeting is open to the public. Public input opportunity will be provided and individuals will have the opportunity to address the Committee at that time.

Dated: February 5, 2004.
James D. Fenwood,
Forest Supervisor.

[FR Doc. 04-3417 Filed 2-17-04; 8:45 am]

BILLING CODE 3410-11-M